ENVIRONMENTAL PROTECTION AGENCY

[Permit No. AKG-31-5000; FRL-9486-6]

Effluent Limits Under the NPDES General Permit for Oil and Gas Exploration, Development and Production Facilities Located in State and Federal Waters in Cook Inlet, AK

AGENCY: Environmental Protection Agency (EPA).

ACTION: Notice.

SUMMARY: EPA Region 10 today issues a final action for six effluent limits for produced water under the National Pollutant Discharge Elimination System (NPDES) General Permit for Oil and Gas Exploration, Development and Production Facilities in State and Federal Waters in Cook Inlet, Permit No. AKG-31-5000 (Permit). The effluent limits subject to the final action are: mercury, copper, total aromatic hydrocarbons (TAH), total aqueous hydrocarbons (TAqH), silver, and whole effluent toxicity (WET), pursuant to the provisions of the Clean Water Act (CWA or “the Act”), 33 U.S.C. 1251. The Permit continues to allow facilities to apply for permit coverage for exploration, development, and production facilities in Cook Inlet, Alaska that are included in the Coastal and Offshore Subcategories of the Oil and Gas Extraction Point Source Category.

State Certification: Section 401 of the Act, 33 U.S.C. 1341, requires EPA to seek a certification from the State that the conditions of the Permit are stringent enough to comply with State water quality standards. EPA obtained a final CWA Section 401 Certification from the Alaska Department of Environmental Conservation (ADEC) on o.

DATES: The final Permit action shall become effective on December 7, 2011.

Comments. On May 18, 2011, EPA re-proposed the six produced water effluent limits and ADEC's draft certification for public review in the Federal Register. The comment period ended on June 20, 2011. All comments received, and EPA's responses, are summarized in the Response to Comments document.

ADDRESSES: Copies of the final Permit action, Response to Comment document, and final 401 certification are available by contacting Washington.Audrey@epa.gov, (206) 553-0523 and posted on EPA's Web site at: http://yosemite.epa.gov/r10/water.nsf/NPDES+Permits/Permits+Homepage.

FOR FURTHER INFORMATION CONTACT: Hanh Shaw, Office of Water and Watersheds, U.S. Environmental Protection Agency, Region 10, 1200 6th Avenue, Suite 900, Mail Stop OWW-130, Seattle, WA 98101-3140, (206) 553-0171, Shaw.Hanh@epa.gov.

Appeal of Final Permit Action: Any interested person may appeal the final Permit action in the Federal Court of Appeals in accordance with Section 509(b)(1) of the Act, 33 U.S.C. 1369(b)(1). This appeal must be filed within 120 days of the final Permit action effective date.

Authority: This action is taken under the authority of Section 402 of the Clean Water Act as amended, 42 U.S.C. 1342. I hereby provide public notice of the final Permit action in accordance with 40 CFR 124.10.

Dated: October 28, 2011.
Michael A. Bussell,
Director, Office of Water and Watersheds Region 10.

[FR Doc. 2011-28785 Filed 11-4-11; 8:45 am]

BILLING CODE 6560-50-P